DEPARTMENT OF EDUCATION

Tribally Controlled Postsecondary Vocational and Technical Institutions Program

AGENCY: Office of Vocational and Adult Education, Department of Education.

ACTION: Notice of proposed extension of project period and waiver.

SUMMARY: We propose to waive the requirement in 34 CFR 75.261(c)(2) as it applies to projects funded under the Tribally Controlled Postsecondary Vocational and Technical Institutions Program (TCPVTIP) in fiscal year (FY) 2001. We propose this waiver in order to be able to extend the project periods for the two current FY 2001 grants awarded under the TCPVTIP. A waiver as proposed would mean that: (1) Current grants may be continued at least through FY 2004 (depending on the availability of appropriations for TCPVTIP in subsequent years under the current statutory authority), instead of ending in FY 2002, and (2) we would not announce a new competition or make new awards in FY 2002, as previously planned.

We are requesting public comments on the proposed extension and waiver.

DATES: We must receive your comments on or before May 13, 2002.

ADDRESSES: Address all comments about this proposed extension and waiver to Sharon A. Jones, U.S. Department of Education, 400 Maryland Avenue, SW., room 4515, Mary E. Switzer Building, Washington, DC 20202-7242. If you prefer to send your comments through the Internet, use the following address: sharon.jones@ed.gov.

FOR FURTHER INFORMATION CONTACT: Sharon A. Jones. Telephone (202) 205-9870.

If you use a telecommunications device for the deaf (TDD), you may call the Federal Information Relay Service (FIRS) at 1-800-877-8339.

Individuals with disabilities may obtain this proposed extension and waiver in an alternative format (e.g., Braille, large print, audiotape, or computer diskette) on request to the contact person listed under FOR FURTHER INFORMATION CONTACT.

SUPPLEMENTARY INFORMATION:

Background

On March 28, 2001 (66 FR 17036), we issued a notice inviting applications for new awards under the TCPVTIP for FY 2001. In that notice, we announced that the project period would be three years for grants awarded under the competition. On May 16, 2001 (66 FR 27080), we issued a notice modifying the March 28th notice by reducing the project period from three years to one year and extending the application deadline. The one-year project period was intended to provide time for affected parties to confer with us and the Congress on the future implementation of the TCPVTIP. However, after the May 16th notice was published, Congress enacted the Supplemental Appropriations Act, 2001, Pub. L. 107-20. Section 2701 of Pub. L. 107-20 amended section 117 of the Carl D. Perkins Vocational and Technical Education Act of 1998 (Perkins Act), which authorizes the TCPVTIP, and clarified congressional intent with respect to the implementation of the TCPVTIP by—

(a) Limiting eligibility to tribally controlled postsecondary vocational and technical institutions that do not receive Federal support under the Tribally Controlled College or University Assistance Act of 1978 (25 U.S.C. 1801 et seq.) or the Navajo Community College Act (25 U.S.C. 640a et seq.); and

(b) Authorizing the use of funds under the TCPVTIP for institutional support.

In light of section 2701 of Pub. L. 107-20, and congressional action taken regarding eligibility and use of funds for institutional support, we believe that multi-year awards, rather than one-year awards, are now more appropriate for projects under this program and that they would result in a more efficient use of Federal funds. Specifically, we believe that it is now preferable and in the best interest of the TCPVTIP for us to issue continuation awards to the existing FY 2001 grantees, rather than hold a new competition in FY 2002.

Moreover, the Perkins Act, which includes the TCPVTIP, expires at the end of FY 2003. With the uncertainties presented by the absence of authorizing legislation for the TCPVTIP beyond 2003, it does not appear to be advisable to hold a competition in FY 2003 for projects that would operate in FY 2004. We are generally reluctant to announce a competition whereby eligible entities would be expected to proceed through the application preparation and submission process while lacking critical information, and do not think that it would be in the public interest to do so in this case.

In addition, it is unlikely that the very limited group of eligible tribally controlled postsecondary vocational and technical institutions, other than the two current grantees, would undertake the effort and cost of applying for funding in FY 2002 or FY 2003 with the authorizing legislation expiring at the end of FY 2003. Thus, a new competition is likely merely to cause existing grantees to expend valuable time and resources applying for program funding under the existing authority, while not providing a meaningful funding opportunity for the limited group of other eligible applicants to apply for Federal funding.

EDGAR Requirement

In order to provide for multi-year awards, we must waive the requirement in 34 CFR 75.261(c)(2), which establishes the conditions for extending a project period, including prohibiting the extension of a program's project period if it involves the obligation of additional Federal funds.

This proposed extension and waiver would allow us to make continuation grants at least in FY 2002 and FY 2003 and perhaps beyond 2003 if Congress continues to appropriate funds for the program under the current statutory authority.

Programs Affected

The two FY 2001 grantees affected by this proposed extension and waiver are Crownpoint Institute of Technology (CIT) and United Tribes Technical College (UTTC). This proposed extension and waiver proposes to extend the current grantees' project periods for two years and for any additional years for which Congress appropriates funds under the current statutory authority. Decisions regarding continuation awards will be made based on Grant Performance Reports submitted by CIT and UTTC and the regulations at 34 CFR 75.253. Consistent with 34 CFR 75.253, we would extend each grant if we determined, among other things, and based on information provided by each grantee, that each grantee was making substantial progress performing grant activities. Under this proposed extension and waiver, (1) the project period for CIT could be extended to August 31, 2004 and UTTC's project could be extended to July 31, 2004 and (2) additional continuation awards could be made for any additional year or years for which Congress appropriates funds under existing statutory authority.

We do not interpret the waiver as exempting the two current grantees from the account closing provisions of Pub. L. 101-510, or as extending the availability of FY 2001 funds awarded to the grantees. As a result of Pub. L. 101-510, appropriations available for a limited period may be used for payments of valid obligations for only five years after the expiration of their period of availability for Federal obligation. After that time, the unexpended balance of those funds is canceled and returned to the Treasury Department and is unavailable for restoration for any purpose.

We are proposing this extension and waiver in order to—

(1) Give the current grantees early notice of the possibility that additional years of funding may be available through continuation awards;

(2) Provide other eligible entities with notice that if this proposal for extension and waiver is published in final form, the Department will not be announcing a competition under this program in FY 2002; and

(3) Request comments on this proposed extension and waiver.

Invitation To Comment

We invite you to submit comments regarding this proposed extension and waiver. We are particularly interested in receiving comments on the potential impact the extension and waiver may have on eligible tribally controlled postsecondary vocational and technical institutions that are not currently grantees and that may be interested in applying for funding under this program prior to FY 2004, since the proposed extension and waiver would effectively postpone, for at least two or more years, the opportunity for funding new grantees.

We also invite comments on the proposed extension and waiver from Indian tribal governments or their representative organizations, under the terms of Executive Order 13175 (Tribal Consultation).

Additionally, we invite you to assist us in complying with the specific requirements of Executive Order 12866 and its overall requirement of reducing regulatory burden that might result from this proposed extension and waiver. Please let us know of any further opportunities we should take to reduce potential costs or increase potential benefits while preserving the effective and efficient administration of the TCPVTIP.

During and after the comment period, you may inspect all public comments about this proposed extension and waiver in room 4515, Mary E. Switzer Building, 330 C Street SW., Washington, DC, between the hours of 8 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension and waiver. If you want to schedule an appointment for this type of aid, please contact the person listed under FOR FURTHER INFORMATION CONTACT.

Regulatory Flexibility Act Certification

The Secretary certifies that the proposed extension and waiver and the activities required to support additional years of funding would not have a significant economic impact on a substantial number of small entities.

The small entities that would be affected by this proposed extension and waiver are the FY 2001 projects currently receiving Federal funds and tribally controlled postsecondary vocational and technical institutions that are not receiving Federal support under the Tribally Controlled College or University Assistance Act of 1978 (25 U.S.C. 1801 et seq.) or the Navajo Community College Act (25 U.S.C. 640a et seq.). However, the proposed extension and waiver would not have a significant economic impact on these entities because the proposed extension and waiver and the activities required to support the additional years of funding would not impose excessive regulatory burdens or require unnecessary Federal supervision. The proposed extension and waiver would impose minimal requirements to ensure the proper expenditure of program funds, including requirements that are standard to continuation awards.

Paperwork Reduction Act of 1995

This proposed extension and waiver does not contain any information collection requirements.

Intergovernmental Review

The TCPVTIP is not subject to Executive Order 12372 and the regulations in 34 CFR part 79.

Assessment of Educational Impact

The Secretary particularly requests comments on whether this proposed extension and waiver would require transmission of information that any other agency or authority of the United States gathers or makes available.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.245 Tribally Controlled Postsecondary Vocational and Technical Institutions Program)
Dated: April 9, 2002.
Carol D'Amico,
Assistant Secretary, Office of Vocational and Adult Education.

[FR Doc. 02-8970 Filed 4-11-02; 8:45 am]

BILLING CODE 4000-01-P